NATIONAL COUNCIL ON DISABILITY

Youth Advisory Committee Meeting (Teleconference)

AGENCY: National Council on Disability (NCD).

Pursuant to the Federal Advisory Committee Act, Public Law 92-463, NCD gives notice that the Youth Advisory Committee will hold a meeting by teleconference on the date and time noted below. This teleconference meeting is open to the public.

Date and Time: Friday, June 20, 2008, 4 p.m. EDT.

Place: National Council on Disability, 1331 F Street, NW., Suite 850, Washington, DC.

Status: All parts of this conference call will be open to the public. People interested in observing the teleconference meeting should contact the appropriate staff member listed below. Due to limited resources, only a few telephone lines will be available for this conference call.

Agenda: Roll call, announcements, reports, new business, adjournment. A detailed agenda will be posted 10 days before each meeting at http://www.ncd.gov/newsroom/advisory/youth/youth.htm.

CONTACT PERSON FOR MORE INFORMATION: Gerrie Drake Hawkins, Ph.D., Senior Program Analyst, National Council on Disability, 1331 F Street, NW., Suite 850, Washington, DC 20004; 202-272-2004 (voice), 202-272-2074 (TTY), 202-272-2022 (fax), ghawkins@ncd.gov (e-mail).

Accommodations: People needing reasonable accommodations should notify NCD at least two weeks before this teleconference meeting.

Youth Advisory Committee Mission: The purpose of NCD's Youth Advisory Committee is to provide advice to NCD on various issues, such as NCD's planning and priorities.

Dated: May 21, 2008.
Michael C. Collins,
Executive Director.

[FR Doc. E8-11935 Filed 5-28-08; 8:45 am]

BILLING CODE 6820-MA-P